Title 3—

The President

Proclamation 8670 of May 6, 2011

National Women’s Health Week, 2011

By the President of the United States of America

A Proclamation

Women are a foundation of our families, and their health affects the well-being of our communities and our country. They often make health care decisions for their families as well as themselves. However, American women have not always had access to the health care they need, or the freedom to make the best health choices for their loved ones. As a Nation, we must ensure our mothers, daughters, friends, and colleagues receive fair treatment and access to resources they need to live healthy, happy lives. During National Women’s Health Week, we reaffirm our commitment to making women’s health a priority.

In the past, insurance companies have effectively considered being a woman a “pre-existing condition,” and the specific medical needs of women meant higher fees and less coverage. Before the Affordable Care Act became law last year, insurance companies could deny coverage to women due to previous events such as having had cancer or having been pregnant. In 2014, it will be illegal for insurance companies to discriminate against anyone with a pre-existing condition, or charge women higher premiums than they charge men.

The Affordable Care Act gives women greater freedom and control over their health care. Thanks to this landmark legislation, women joining new health plans have the ability to choose their own doctor from any primary care provider, OB-GYN, or pediatrician in their health plan’s network without a referral. The new insurance exchanges created by this law ensure coverage of preventive care and basic health services, including maternity care, which is often not provided in health plans in the individual insurance market.

National Women’s Health Week is also an opportunity for women of all ages, ethnicities, and economic circumstances to take simple, everyday steps to embrace healthier lifestyles. This week, we encourage women to schedule their annual checkups and talk to their health care provider about important health screenings, many of which will be free of charge because of the Affordable Care Act. All American women and their loved ones can visit www.WomensHealth.gov and www.GirlsHealth.gov for more information and resources on living longer and healthier lives. During National Women’s Health Week, I encourage women, and all Americans, to make their own health a priority and support each other in these efforts.

NOW, THEREFORE, I, BARACK OBAMA, President of the United States of America, by virtue of the authority vested in me by the Constitution and the laws of the United States, do hereby proclaim May 8 through May 14, 2011, as National Women’s Health Week. I encourage all Americans to celebrate the progress we have made in protecting women’s health and to promote awareness, prevention, and educational activities that improve the health of all women.

IN WITNESS WHEREOF, I have hereunto set my hand this sixth day of May, in the year of our Lord two thousand eleven, and of the Independence of the United States of America the two hundred and thirty-fifth.

[FR Doc. 2011-11748

Filed 5-10-11; 11:15 am]

Billing code 3195-W1-P